DEPARTMENT OF TRANSPORTATION

Federal Highway Administration

Uniform Relocation Assistance and Real Property Acquisition for Federal and Federally Assisted Programs; Fixed Residential Moving Cost Schedule

Correction

In notice document 2012-12380 appearing on pages 30586 through 30588, in the issue of May 23, 2012, make the following correction:

The table beginning on page 30587 and ending on page 30588 is being reprinted in its entirety.

The payments listed in the table below apply on a state-by state basis. Two exceptions and limitations apply to all States and Territories. Payment is limited to $100.00 if either of the following conditions apply:

(a) A person has minimal possessions and occupies a dormitory style room, or

(b) A person's residential move is performed by an agency at no cost to the person.

Uniform Relocation Assistance and Real Property Acquisition Policies Act of 1970, as Amended—Fixed Residential Moving Cost Schedule (2012)
State | Occupant owns furniture: Number of rooms of furniture: 1 room | Occupant owns furniture: Number of rooms of furniture: 2 rooms | Occupant owns furniture: Number of rooms of furniture: 3 rooms | Occupant owns furniture: Number of rooms of furniture: 4 rooms | Occupant owns furniture: Number of rooms of furniture: 5 rooms | Occupant owns furniture: Number of rooms of furniture: 6 rooms | Occupant owns furniture: Number of rooms of furniture: 7 rooms | Occupant owns furniture: Number of rooms of furniture: 8 rooms | Occupant owns furniture: addt'l room | Occupant does not own furniture: 1 room/ no furn. | Occupant does not own furniture: addt'l room no furn.
Alabama | 600 | 750 | 900 | 1050 | 1200 | 1350 | 1500 | 1650 | 150 | 400 | 50
Alaska | 700 | 900 | 1125 | 1350 | 1550 | 1725 | 1900 | 2075 | 300 | 500 | 200
American Samoa | 282 | 395 | 508 | 621 | 706 | 790 | 875 | 960 | 85 | 226 | 28
Arizona | 700 | 800 | 900 | 1000 | 1100 | 1200 | 1300 | 1400 | 100 | 395 | 60
Arkansas | 550 | 825 | 1100 | 1350 | 1600 | 1825 | 2050 | 2275 | 200 | 300 | 70
California | 685 | 880 | 1100 | 1295 | 1570 | 1815 | 2090 | 2365 | 250 | 450 | 85
Colorado | 600 | 800 | 1000 | 1150 | 1300 | 1450 | 1600 | 1750 | 150 | 350 | 50
Connecticut | 620 | 810 | 1000 | 1180 | 1425 | 1670 | 1910 | 2150 | 150 | 225 | 60
Delaware | 500 | 710 | 880 | 1110 | 1260 | 1410 | 1560 | 1710 | 160 | 400 | 60
DC | 500 | 650 | 800 | 950 | 1100 | 1250 | 1400 | 1650 | 150 | 300 | 50
Florida | 550 | 700 | 875 | 1050 | 1200 | 1350 | 1500 | 1650 | 200 | 450 | 125
Georgia | 600 | 975 | 1300 | 1600 | 1875 | 2125 | 2325 | 2525 | 200 | 375 | 100
Guam | 450 | 800 | 1150 | 1450 | 1750 | 2000 | 2250 | 2500 | 100 | 200 | 0
Hawaii | 550 | 900 | 1250 | 1550 | 1850 | 2100 | 2350 | 2600 | 200 | 300 | 100
Idaho | 500 | 650 | 800 | 950 | 1100 | 1200 | 1300 | 1400 | 100 | 300 | 50
Illinois | 700 | 850 | 1000 | 1100 | 1250 | 1450 | 1600 | 1900 | 300 | 500 | 75
Indiana | 500 | 700 | 900 | 1100 | 1300 | 1500 | 1700 | 1900 | 200 | 400 | 100
Iowa | 550 | 700 | 800 | 900 | 1000 | 1100 | 1225 | 1350 | 125 | 500 | 50
Kansas | 400 | 600 | 800 | 1000 | 1200 | 1400 | 1600 | 1800 | 200 | 250 | 50
Kentucky | 500 | 700 | 900 | 1100 | 1300 | 1500 | 1700 | 1900 | 200 | 350 | 50
Louisiana | 500 | 700 | 900 | 1100 | 1300 | 1500 | 1700 | 1900 | 200 | 375 | 60
Maine | 650 | 900 | 1150 | 1400 | 1650 | 1900 | 2150 | 2400 | 250 | 400 | 100
Maryland | 650 | 850 | 1050 | 1250 | 1450 | 1650 | 1850 | 2050 | 200 | 500 | 100
Massachusetts | 700 | 850 | 1000 | 1150 | 1300 | 1450 | 1600 | 1750 | 200 | 400 | 100
Michigan | 700 | 950 | 1150 | 1300 | 1450 | 1600 | 1750 | 1900 | 300 | 500 | 200
Minnesota | 550 | 700 | 900 | 1100 | 1300 | 1500 | 1700 | 1900 | 250 | 425 | 100
Mississippi | 750 | 850 | 1000 | 1200 | 1400 | 1550 | 1700 | 1850 | 300 | 400 | 100
Missouri | 800 | 900 | 1000 | 1100 | 1200 | 1300 | 1400 | 1500 | 200 | 400 | 100
Montana | 500 | 700 | 800 | 900 | 1100 | 1300 | 1500 | 1700 | 200 | 350 | 50
Nebraska | 390 | 545 | 700 | 855 | 970 | 1075 | 1205 | 1325 | 120 | 310 | 40
Nevada | 500 | 700 | 900 | 1100 | 1300 | 1500 | 1700 | 1900 | 200 | 350 | 60
New Hampshire | 500 | 700 | 900 | 1100 | 1300 | 1500 | 1700 | 1900 | 200 | 200 | 150
New Jersey | 625 | 725 | 825 | 975 | 1125 | 1275 | 1375 | 1525 | 250 | 300 | 50
New Mexico | 650 | 850 | 1050 | 1250 | 1450 | 1650 | 1850 | 2050 | 200 | 400 | 60
New York | 600 | 800 | 1000 | 1200 | 1400 | 1600 | 1800 | 2000 | 200 | 350 | 100
North Carolina | 550 | 750 | 1050 | 1200 | 1350 | 1600 | 1700 | 1900 | 150 | 350 | 50
North Dakota | 465 | 670 | 845 | 1015 | 1190 | 1330 | 1420 | 1595 | 175 | 405 | 60
N. Mariana Is. | 282 | 395 | 508 | 621 | 706 | 790 | 875 | 960 | 85 | 226 | 28
Ohio | 600 | 800 | 1000 | 1150 | 1300 | 1450 | 1600 | 1750 | 150 | 400 | 100
Oklahoma | 600 | 750 | 900 | 1100 | 1250 | 1450 | 1650 | 1850 | 175 | 300 | 50
Oregon | 600 | 800 | 1000 | 1200 | 1400 | 1600 | 1800 | 2000 | 200 | 350 | 100
Pennsylvania | 500 | 750 | 1000 | 1200 | 1400 | 1600 | 1800 | 2000 | 200 | 400 | 70
Puerto Rico | 500 | 700 | 850 | 950 | 1150 | 1300 | 1450 | 1600 | 150 | 425 | 100
Rhode Island | 450 | 625 | 800 | 900 | 1000 | 1200 | 1350 | 1500 | 150 | 300 | 50
South Carolina | 685 | 790 | 1075 | 1260 | 1575 | 1735 | 1890 | 2075 | 225 | 500 | 75
South Dakota | 500 | 650 | 800 | 950 | 1050 | 1200 | 1400 | 1600 | 200 | 300 | 40
Tennessee | 500 | 750 | 1000 | 1250 | 1500 | 1750 | 2000 | 2250 | 250 | 400 | 100
Texas | 600 | 800 | 1000 | 1200 | 1400 | 1600 | 1750 | 1900 | 150 | 400 | 50
Utah | 600 | 750 | 900 | 1050 | 1200 | 1350 | 1500 | 1650 | 150 | 500 | 100
Vermont | 400 | 550 | 650 | 850 | 1000 | 1100 | 1200 | 1300 | 150 | 300 | 75
Virgin Islands | 500 | 700 | 850 | 950 | 1150 | 1300 | 1450 | 1600 | 150 | 425 | 100
Virginia | 600 | 800 | 1000 | 1200 | 1400 | 1600 | 1800 | 2000 | 200 | 400 | 75
Washington | 600 | 800 | 1000 | 1200 | 1400 | 1600 | 1800 | 2000 | 200 | 300 | 50
West Virginia | 750 | 900 | 1050 | 1200 | 1350 | 1500 | 1650 | 1800 | 150 | 350 | 50
Wisconsin | 550 | 700 | 900 | 1100 | 1300 | 1500 | 1700 | 1900 | 250 | 425 | 100
Wyoming | 480 | 590 | 750 | 910 | 1070 | 1180 | 1400 | 1500 | 160 | 300 | 50

[FR Doc. C1-2012-12380 Filed 6-5-12; 8:45 am]

BILLING CODE 1505-01-D